DEPARTMENT OF ENERGY

Federal Energy Regulatory Commission

[Project No. 15300-000]

Heard County Pumped Storage Project; Notice of Preliminary Permit Application Accepted for Filing and Soliciting Comments, Motions To Intervene, and Competing Applications

On January 31, 2023, BOST1 Hydroelectric, LLC., filed an application for a preliminary permit, pursuant to section 4(f) of the Federal Power Act (FPA), proposing to study the feasibility of a pumped storage hydropower project located near the City of Enon Grove, Heard County, Georgia. The sole purpose of a preliminary permit, if issued, is to grant the permit holder priority to file a license application during the permit term. A preliminary permit does not authorize the permit holder to perform any land-disturbing activities or otherwise enter upon lands or waters owned by others without the owners' express permission.

The proposed Heard County Pumped Storage Project would consist of the following: (1) a 20-foot-long, 30-foot-deep reinforced concrete intake structure with trash racks, and a pumping station on Hilly Mill Creek; (2) a 24-inch-diameter fill pipeline to the upper reservoir; (3) a geotextile lined rock filled embankment forming an enclosed upper reservoir; (4) a 66-foot-deep enclosed upper reservoir with a storage capacity of 5,300 acre-feet; (5) a lower underground reservoir consisting of concentric circular tunnels reaching a depth of 2,100 feet below the surface, with the total length of the tunnels being 170,000 feet; (6) a reinforced morning glory type water intake situated within the upper reservoir with an outer diameter of 95 feet and an inside diameter of 38 feet; (7) a 23-foot-diameter, 2,300-foot-long granite bedrock vertical tunnel trifurcating into three 10-foot-diameter steel lined penstocks leading to three reversible Francis pump turbines; (8) a 460-foot-long, 80-foot-wide, 160-foot-high powerhouse, 200 feet below the lower reservoir containing the three pump turbine units with a total installed capacity of 1,000 megawatts; (9) a separate 60-foot-wide, 410-foot-long, 160-foot-high underground transformer gallery near the powerhouse; and (10) a 1-mile-long, 500 kilovolt transmission line east of the proposed upper reservoir. The lower reservoir tunneling would be accomplished using two 42.5-foot-diameter tunnel boring machines with an access ramp of the same size from the surface. The powerhouse would be excavated using traditional drill and blast methods. The proposed project would have an estimated annual generation of 2,628,000 megawatt-hours.

Applicant Contact: Douglas Spaulding, Nelson Energy, 8441 Wayzata Blvd., Suite 101, Golden Valley, MN 55426; phone: (952) 544-8133.

FERC Contact: Michael Spencer; phone: (202) 502-6093, or by email at michael.spencer@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15300-000.

More information about this project, including a copy of the application, can be viewed or printed on the “eLibrary” link of the Commission's website at https://elibrary.ferc.gov/eLibrary/search. Enter the docket number (P-15300) in the docket number field to access the document. For assistance, contact FERC Online Support.

Dated: April 3, 2023.
Kimberly D. Bose,
Secretary.

[FR Doc. 2023-07391 Filed 4-6-23; 8:45 am]

BILLING CODE 6717-01-P